DEFENSE BASE CLOSURE AND REALIGNMENT COMMISSION

Notice of the Defense Base Closure and Realignment Commission—Change to the Agenda of a Previously Announced Open Meeting (Charlotte, NC); Correction

AGENCY: Defense Base Closure and Realignment Commission.

ACTION: Notice; correction.

SUMMARY: The Defense Base Closure and Realignment Commission published a document in the Federal Register of June 7, 2005, concerning receiving comments from Federal, State and local government representatives and the general public on base realignment and closure actions in North Carolina and South Carolina that have been recommended by the Department of Defense (DoD). The agenda for this meeting has changed.

FOR FURTHER INFORMATION CONTACT: Please see the Defense Base Closure and Realignment Commission Web site, http://www.brac.gov. The Commission invites the public to provide direct comment by sending an electronic message through the portal provided on the Commission's Web site or by mailing comments and supporting documents to the 2005 Defense Base Closure and Realignment Commission, 2521 South Clark Street, Suite 600, Arlington, Virginia 22202-3920. The Commission requests that public comments be directed toward matters bearing on the decision criteria described in The Defense Base Closure and Realignment Act of 1990, as amended, available on the Commission website. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Correction

In the Federal Register of June 7, 2005, in FR Doc. 05-11233, on page 33126, in the second column, correct the SUMMARY caption to read:

SUMMARY: The delegation will meet to receive comments from Federal, State and local government representatives and the general public on base realignment and closure actions in North Carolina, South Carolina and West Virginia that have been recommended by the Department of Defense (DoD). The agenda for this meeting has changed.

Dated: June 6, 2005.
Jeannette Owings-Ballard,
Administrative Support Officer.

[FR Doc. 05-11632 Filed 6-10-05; 8:45 am]

BILLING CODE 5001-06-P